DEPARTMENT OF ENERGY

Federal Energy Regulatory Commission

Notice of Effectiveness of Holding Company and Transaction Exemptions and Waivers

December 4, 2006.

ALLETE, Inc | Docket No. PH06-49-000.
AOG Corporation | Docket No. PH06-50-000.
American States Water Company | Docket No. PH06-51-000.
Consolidated Edison, Inc. | Docket No. PH06-52-000.
CH Energy Group | Docket No. PH06-53-000.
Energy East Corporation | Docket No. PH06-54-000.
RGS Energy Group, Inc. | Docket No. PH06-55-000.
Energen Corporation | Docket No. PH06-56-000.
UGI Corporation | Docket No. PH06-57-000.
Puget Energy, Inc. | Docket No. PH06-58-000.
HH-SU Investments L.L.C. | Docket No. PH06-59-000.
Cap Rock Energy Corporation | Docket No. PH06-60-000.
Peoples Energy Corporation | Docket No. PH06-61-000.
Peoples Energy Corporation | Docket No. PH06-62-000.
Duquesne Light Holdings, Inc | Docket No. PH06-63-000.
Milliken & Company | Docket No. PH06-64-000.
Intermountain Industries, Inc. | Docket No. PH06-65-000.
TXU Corp | Docket No. PH06-66-000.
Cleco Corporation | Docket No. PH06-67-000.
KeySpan Energy Corporation | Docket No. PH06-68-000.
KeySpan New England, LLC | Docket No. PH06-69-000.
WPS Resources Corporation | Docket No. PH06-70-000.

Take notice that in July 2006 the holding company and transaction exemptions and waivers requested in the above-captioned proceedings are deemed to have been granted by operation of law pursuant to 18 CFR 366.4.

Magalie R. Salas,
Secretary.

[FR Doc. E6-21054 Filed 12-11-06; 8:45 am]

BILLING CODE 6717-01-P